DEPARTMENT OF STATE

[Public Notice 9623]

Imposition of Nonproliferation Measures Against Foreign Persons, Including a Ban on U.S. Government Procurement

AGENCY: Bureau of International Security and Nonproliferation, Department of State.

ACTION: Notice.

SUMMARY: A determination has been made that a number of foreign persons have engaged in activities that warrant the imposition of measures pursuant to Section 3 of the Iran, North Korea, and Syria Nonproliferation Act. The Act provides for penalties on foreign entities and individuals for the transfer to or acquisition from Iran since January 1, 1999; the transfer to or acquisition from Syria since January 1, 2005; or the transfer to or acquisition from North Korea since January 1, 2006, of goods, services, or technology controlled under multilateral control lists (Missile Technology Control Regime, Australia Group, Chemical Weapons Convention, Nuclear Suppliers Group, Wassenaar Arrangement) or otherwise having the potential to make a material contribution to the development of weapons of mass destruction (WMD) or cruise or ballistic missile systems. The latter category includes (a) items of the same kind as those on multilateral lists but falling below the control list parameters when it is determined that such items have the potential of making a material contribution to WMD or cruise or ballistic missile systems, (b) items on U.S. national control lists for WMD/missile reasons that are not on multilateral lists, and (c) other items with the potential of making such a material contribution when added through case-by-case decisions.

DATES: Effective Date: June 28, 2016.

FOR FURTHER INFORMATION CONTACT: On general issues: Pam Durham, Office of Missile, Biological, and Chemical Nonproliferation, Bureau of International Security and Nonproliferation, Department of State, Telephone (202) 647-4930. For U.S. Government procurement ban issues: Eric Moore, Office of the Procurement Executive, Department of State, Telephone: (703) 875-4079.

SUPPLEMENTARY INFORMATION: On June 22, 2016 the U.S. Government determined that the measures authorized in Section 3 of the Iran, North Korea, and Syria Nonproliferation Act (Pub. L. 109-353) shall apply to the following foreign persons identified in the report submitted pursuant to Section 2(a) of the Act:

Belvneshpromservice (BVPS) (Belarus) and any successor, sub-unit, or subsidiary thereof;

Composite International (China) and any successor, sub-unit, or subsidiary thereof;

Cosailing Business Trading Company (China) and any successor, sub-unit, or subsidiary thereof;

Do Best Industry Co., Ltd (China) and any successor, sub-unit, or subsidiary thereof;

Global Holding Group Company (China) and any successor, sub-unit, or subsidiary thereof;

Jack Qin (China);

Li Fangwei (aka Karl Lee) (China);

Ningbo Jiahe Trading Co., Ltd (China) and any successor, sub-unit, or subsidiary thereof;

Ningbo New Century (China) and any successor, sub-unit, or subsidiary thereof;

Richard Yue (China);

Sinotech (Dalian) Carbon and Graphite Corporation (SCGC) (China) and any successor, sub-unit, or subsidiary thereof;

Shanghai Electric International Economic & Trading Company (SEIC) (China) and any successor, sub-unit, or subsidiary thereof:

Xi'an Jiate Titanium Industry Company (China) and any successor, sub-unit, or subsidiary thereof;

Asaib ahl Haq (AAH) (Iraq) and any successor, sub-unit, or subsidiary thereof;

Khata'ib Hezbollah (KH) (Iraq) and any successor, sub-unit, or subsidiary thereof;

Islamic Revolutionary Guard Corps Qods Force (IRGC QF) (Iran) and any successor, sub-unit, or subsidiary thereof;

Shahid Moghadam-Yazd Marine Industries (SMYM) (Iran) and any successor, sub-unit, or subsidiary thereof;

Shiraz Electronic Industries (SEI) Company (Iran) and any successor, sub-unit, or subsidiary thereof;

Budaya Kita Sdn Bhd (BK) (Malaysia) and any successor, sub-unit, or subsidiary thereof;

Mohammad Rafie Ab Malek (Malaysia);

Kay Marine Sdn. Bhd. (Malaysia) and any successor, sub-unit, or subsidiary thereof;

Kang Mun-kil (North Korea);

Korea Namhung Trading Corporation (North Korean entity operating in China) and any successor, sub-unit, or subsidiary thereof;

Saeng Pil Trading Corporation (STC) (North Korea) and any successor, sub-unit, or subsidiary thereof;

General Department of Military Cooperation (North Korea) and any successor, sub-unit, or subsidiary thereof;

150th Aircraft Repair Plant (ARZ) (Kaliningrad) (Russia) and any successor, sub-unit, or subsidiary thereof;

Instrument Building Design Bureau (KBP) Tula (Russia) and any successor, sub-unit, or subsidiary thereof;

Kolomna Design Bureau of Machine-Building (KBM) (Russia) and any successor, sub-unit, or subsidiary thereof;

Kuntsevo Design Bureau (Russia) and any successor, sub-unit, or subsidiary thereof;

NPO Mashinostroyeniya (NPOM) (Russia) and any successor, sub-unit, or subsidiary thereof;

Military Industrial Corporation (MIC) (Sudan) and any successor, sub-unit, or subsidiary thereof;

Khartoum Industrial Complex (Giad) (Sudan) and any successor, sub-unit, or subsidiary thereof;

Khartoum Military Industrial Complex (Yarmouk) (Sudan) and any successor, sub-unit, or subsidiary thereof;

Vega Aeronautics and Engineering Company Ltd (Sudan) and any successor, sub-unit, or subsidiary thereof;

Scientific Studies and Research Center (SSRC) (Syria) and any successor, sub-unit, or subsidiary thereof;

Lebanese Hizballah (Syria) and any successor, sub-unit, or subsidiary thereof; and

Luwero Industries Ltd (Uganda) and any successor, sub-unit, or subsidiary thereof.

Accordingly, pursuant to Section 3 of the Act, the following measures are imposed on these persons:

1. No department or agency of the United States Government may procure or enter into any contract for the procurement of any goods, technology, or services from these foreign persons, except to the extent that the Secretary of State otherwise may determine;

2. No department or agency of the United States Government may provide any assistance to these foreign persons, and these persons shall not be eligible to participate in any assistance program of the United States Government, except to the extent that the Secretary of State otherwise may determine;

3. No United States Government sales to these foreign persons of any item on the United States Munitions List are permitted, and all sales to these persons of any defense articles, defense services, or design and construction services under the Arms Export Control Act are terminated; and

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State may subsequently determine otherwise.

Dated: June 27, 2016.
Vann H. Van Diepen,
Acting Assistant Secretary of State for International Security and Nonproliferation.

[FR Doc. 2016-15828 Filed 7-1-16; 8:45 am]

BILLING CODE 4710-27-P